DEPARTMENT OF THE INTERIOR

Bureau of Indian Affairs

Indian Gaming

AGENCY: Bureau of Indian Affairs, Interior.

ACTION: Notice of Deemed Approved Amended Tribal-State Class III Gaming Compact.

SUMMARY: This notice publishes the Deemed Approved Amendment to the Tribal-State Compact between the State of Oregon and the Cow Creek Band of Umpqua Indians.

DATES: Effective Date: September 28, 2012.

FOR FURTHER INFORMATION CONTACT: Paula L. Hart, Director, Office of Indian Gaming, Office of the Deputy Assistant Secretary—Policy and Economic Development, Washington, DC 20240, (202) 219-4066.

SUPPLEMENTARY INFORMATION: Under Section 11 of the Indian Gaming Regulatory Act of 1988 (IGRA) Public Law 100-497, 25 U.S.C. 2710, the Secretary of the Interior shall publish in the Federal Register notice of approved Tribal—State compacts for the purpose of engaging in Class III gaming activities on Indian lands. On July 12, 2012, the State of Oregon and the Cow Creek Band of Umpqua Tribe of Indians submitted Amendment I to the Class III compact approved on February 8, 2007. Amendment I re-configures the Board of Trustees of the Cow Creek Umpqua Indian Foundation adding three additional seats. The Assistant Secretary—Indian Affairs, Department of the Interior, through his delegated authority, is publishing notice that Amendment I between the State of Oregon and the Cow Creek Band of Umpqua Tribe of Indians is now in effect. Amendment I is considered to have been approved but only to the extent that Amendment I is consistent with the provisions of the Indian Gaming Regulatory Act.

Dated: September 20, 2012.
Donald E. Laverdure,
Acting Assistant Secretary—Indian Affairs.

[FR Doc. 2012-23975 Filed 9-27-12; 8:45 am]

BILLING CODE 4310-4N-P